DEPARTMENT OF JUSTICE

Drug Enforcement Administration

Manufacturer of Controlled Substances; Notice of Registration

By Notice dated October 2, 2001, and published in the Federal Register on October 11, 2001, (66 FR 51969), Dupont Pharmaceuticals, which has changed its name to Bristol-Myers Squibb Pharma Company, 1000 Stewart Avenue, Garden City, New York 11530, made application by renewal to the Drug Enforcement Administration (DEA) to be registered as a bulk manufacturer of the basic classes of controlled substances listed below:

Drug | Schedule
Oxycodone (9143) | II
Hydrocodone (9193) | II
Oxymorphone (9652) | II

The firm plans to manufacture the listed controlled substances to make finished products.

DEA has considered the factors in Title 21, United States Code, Section 823(a) and determined that the registration of Bristol-Myers Squib Pharma Company to manufacture the listed controlled substances is consistent with the public interest at this time. DEA has investigated Bristol-Myers Squibb Pharma Company on a regular basis to ensure that the company's continued registration is consistent with the public interest. These investigations have included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: April 11, 2002.
Laura M. Nagel,
Deputy Assistant Administrator, Office of Diversion Control, Drug Enforcement Administration.

[FR Doc. 02-10301 Filed 4-25-02; 8:45 am]

BILLING CODE 4410--09-M